DEPARTMENT OF ENERGY

Federal Energy Regulatory Commission

[Docket No. CP01-406-000]

Transok, L.L.C.; Notice of Application

August 9, 2001

Take notice that on July 18, 2001, Transok, L.L.C. (Transok) filed an abbreviated application pursuant to Section 7(c) of the Natural Gas Act (NGA) for issuance to Transok of a limited-jurisdiction certificate of public convenience and necessity authorizing Transok to lease capacity on its intrastate pipeline system for use by Ozark Gas Transmission, L.L.C. to provide interstate storage and no-notice transportation services.

Transok is an intrastate pipeline that provides natural gas transportation and storage service under Section 311 of the Natural Gas Policy Act of 1978. Ozark is an interstate pipeline providing service in Oklahoma, Arkansas and Missouri.

Transok seeks issuance of a limited jurisdiction certificate of public convenience and necessity under NGA Section 7(c) to the extent required to enable Transok to lease pipeline capacity to Ozark which Ozark will use in the transportation of gas in interstate commerce. Transok submits that the lease of pipeline capacity is necessary to enable Ozark to offer its proposed new No-Notice, Firm Storage and Interruptible Storage Services. Transok states that it will not be in a position to enter into and perform the proposed pipeline capacity lease unless it is granted a limited jurisdiction certificate that will permit the leased capacity to be used in the transportation of natural gas in interstate commerce without generally subjecting Transok to NGA jurisdiction.

Questions concerning this filing may be directed to counsel for Ozark, James F. Bowe, Jr., Dewey Ballantine LLP, at (202) 429-1444, fax (202) 429-1579, or jbowe@deweyballantine.com.

Any person desiring to be heard or to make any protest with reference to said application should on or before August 30, 2001, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to jurisdiction conferred upon the Federal Energy Regulatory Commission by Sections 7 and 15 of the Natural Gas Act and the Commission's Rules, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Transok to appear or to be represented at the hearing.

Linwood A. Watson, Jr.,
Acting Secretary.

[FR Doc. 01-20461 Filed 8-14-01; 8:45 am]

BILLING CODE 6717-01-P